DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1-Motor vehicle, 2-Rail freight, 3-Cargo vessel, 4-Cargo aircraft only, 5-Passenger-carrying aircraft.

DATES: Comments must be received on or before October 20, 2008.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC or at http://dms.dot.gov.

This notice of receipt of applications for special permits is published in accordance with Part 107 of the Federal hazardous materials transportation law (49 U.S.C. 5117(b); 49 CFR 1.53(b)).

Issued in Washington, DC, on September 10, 2008.
Delmer F. Billings,
Director, Office of Hazardous Materials, Special Permits and Approvals.

New Special Permits
Application No. | Docket No. | Applicant | Regulation(s) affected | Nature of special permits thereof
14751-N |  | ExxonMobil, Mont Belvieu, TX | 49 CFR 173.242 | To authorize the transportation in commerce of an Organometallic substance, solid in a non-DOT specification portable tank. (modes 1, 2, 3).
14756-N |  | Univation Technologies, LLC, Houston, TX | 49 CFR 173.242 | To authorize the transportation in commerce of a Division 4.2 hazardous material in a non-DOT specification portable tank. (modes 1, 3).
14762-N |  | PPG Industries, Inc, Pittsburgh, PA | 49 CFR 173.173, 173.242, 172.326 and 172.504 | To authorize the transportation in commerce of certain open-top cylindrical mixing tanks containing the residue of a Class 3 hazardous material by motor vehicle. (mode 1).
14763-N |  | Weatherford International, Fort Worth, TX | 49 CFR 173.302a and 173.301(t) | To authorize the manufacture, marking, sale and use of a non-DOT specification cylinder similar to a DOT Specification 3A cylinder for transportation of hydrocarbon formation fluid sample from oil well sites. (modes 1, 2, 3, 4, 5).
14764-N |  | SAFC Hitech Inc. Milwaukee, WI | 49 CFR 703.301, 173.304 and 173.304a | To authorize the filling, for export only, of non-DOT specification pressure vessels with boron trichloride, Division 2.3, Hazard Zone C. (modes 1, 2, 3).
14765-N |  | Chemtrade Logistics, Inc., Chicago, IL | 49 CFR 180.407 | To authorize the transportation in commerce of certain DOT Specification MC 312 and DOT 412 cargo tanks containing sulfuric acid that have been tested using alternative methods. (mode 1).
14766-N |  | JL Shepherd & Associates, San Fernando, CA | 49 CFR 173.416 | To authorize the continued transportation in commerce of certain DOT Specification 2OWC radioactive material packagings after October 1, 2008. (mode 1).
14767-N |  | Commodore Applied Technologies, Inc., Broomfield, CO | 49 CFR 173.420 | To authorize the one-time transportation in commerce of uranium hexafluoride in a DOT Specification 4B240ET cylinder. (mode 1).
14768-N |  | Tobin & Sons Moving and Storage, Inc., Peabody, MA | 49 CFR 173.196 | To authorize the transportation of certain infectious substances by motor vehicle in alternative packaging (freezers). (mode 1).
14769-N |  | Pfizer, Inc., Memphis, TN | 49 CFR 173.199 | To authorize the one-way transportation in commerce of certain infectious substances in alternative packaging (freezers). (mode 1).
14770-N |  | Dow Chemical Company, Midland, MI | 49 CFR 173.242 | To authorize the transportation in commerce of a Divison 4.3 organometallic substance in a non-DOT specification portable tank. (modes 1, 2, 3).

[FR Doc. E8-21640 Filed 9-18-08; 8:45 am]

BILLING CODE 4909-60-M